OFFICE OF PERSONNEL MANAGEMENT

Federal Prevailing Rate Advisory Committee; Virtual Public Meeting

AGENCY: Office of Personnel Management.

ACTION: Notice

SUMMARY: According to the provisions of section 10 of the Federal Advisory Committee Act (Pub. L. 92-463), notice is hereby given that the September 17, 2020, meeting of the Federal Prevailing Rate Advisory Committee previously announced in the Federal Register on Monday, December 23, 2019, at 84 FR 70580, is being changed to a virtual meeting via teleconference. There will be no in-person gathering for this meeting. This meeting will be open to the public, with an audio option for listening. This notice sets forth the agenda for the meeting and the participation guidelines.

DATES: The virtual meeting will be held on September 17, 2020, beginning at 10:00 a.m. (EDT).

ADDRESSES: The meeting will convene virtually.

FOR FURTHER INFORMATION CONTACT: Madeline Gonzalez, 202-606-2858, or email pay-leave-policy@opm.gov.

SUPPLEMENTARY INFORMATION:

Meeting Agenda. The tentative agenda for this meeting includes the following Federal Wage System items:

• The definition of Monroe County, PA

• The definition of San Joaquin County, CA

• The definition of the Salinas-Monterey, CA, wage area

• The definition of the Puerto Rico wage area

• Amendments to 5 CFR 532.201, 532.207, 532.235, and 532.247

Public Participation: The September 17, 2020, meeting of the Federal Prevailing Rate Advisory Committee is open to the public through advance registration. Public participation is available for the teleconference by audio access only. All individuals who plan to attend the virtual public meeting to listen must register by sending an email to pay-leave-policy@opm.gov with the subject line “September 17 FPRAC Meeting” no later than Tuesday, September 15, 2020.

The following information must be provided when registering:

• Name.

• Agency and duty station.

• Email address.

• Your topic of interest.

Members of the press, in addition to registering for this event, must also RSVP to media@opm.gov by September 15, 2020.

A confirmation email will be sent upon receipt of the registration. Audio teleconference information for participation will be sent to registrants the morning of the virtual meeting.

Office of Personnel Management.
Alexys Stanley,
Regulatory Affairs Analyst.

[FR Doc. 2020-19245 Filed 8-31-20; 8:45 am]

BILLING CODE P